DEPARTMENT OF TRANSPORTATION

Surface Transportation Board

[STB Finance Docket No. 34243]

N&T Railway Company LLC—Acquisition and Operation Exemption—Rail Lines in Stark County, OH

N&T Railway Company LLC (N&T), a noncarrier, has filed a notice of exemption under 49 CFR 1150.31, to acquire and operate two nonconnecting rail lines located in Stark, County, OH.¹ One line, known as the Massillion line, consists of approximately 15 miles of track that is located in the Township of Perry, OH. The second line, known as the Canton line, consists of approximately 21 miles of track that is located between the Township of Canton and the City of Canton, OH.

¹ N&T's notice of exemption was filed on August 14, 2002, and supplemented on December 18, 2002.

The rail lines had been owned by Republic Technologies International, LLC (RTI), which is bankrupt, and had been operated by RTI's carrier subsidiary, the Nimishillen & Tuscarawas, LCC, which is not bankrupt. N&T's parent, Republic Engineered Products LLC (REP), acquired the lines from RTI, with the approval of RTI's bankruptcy court. REP then transferred ownership of the lines to N&T.

N&T certifies that its projected revenues as a result of this transaction will not exceed those that would qualify it as a Class III rail carrier and that such revenues would not exceed $5 million.

Operations under the transaction were scheduled to begin on or after December 25, 2002, the effective date of the exemption (7 days after the supplement was filed).

If the notice contains false or misleading information, the exemption is void ab initio. Petitions to revoke the exemption under 49 U.S.C. 10502(d) may be filed at any time. The filing of a petition to revoke will not automatically stay the transaction.

An original and 10 copies of all pleadings, referring to STB Finance Docket No. 34243, must be filed with the Surface Transportation Board, 1925 K Street NW., Washington, DC 20423-0001. In addition, one copy of each pleading must be served on: Scott E. Ross, Akin Gump, Strauss, Hauer & Feld, L.L.P., 1333 New Hampshire Avenue NW., Washington, DC 20036.

Board decisions and notices are available on our Web site at http://www.stb.dot.gov.

Decided: January 8, 2003.
By the Board, David M. Konschnik, Director, Office of Proceedings.
Vernon A. Williams,
Secretary.

[FR Doc. 03-864 Filed 1-15-03; 8:45 am]

BILLING CODE 4915-00-P